DEPARTMENT OF TRANSPORTATION

Federal Aviation Administration

14 CFR Part 39

[Docket No. FAA-2008-1098; Directorate Identifier 2008-NM-108-AD; Amendment 39-16532; AD 2010-24-13]

RIN 2120-AA64

Airworthiness Directives; The Boeing Company Model 747-100, 747-100B, 747-100B SUD, 747-200B, 747-200C, 747-200F, 747-300, 747SR, and 747SP Series Airplanes

AGENCY: Federal Aviation Administration (FAA), DOT.

ACTION: Final rule.

SUMMARY: We are adopting a new airworthiness directive (AD) for the products listed above. This AD requires adding two new indicator lights on a certain panel to inform the captain and first officer of a low pressure condition in the left and right override/jettison pumps of the center wing tanks. This AD also requires replacing the left and right override/jettison switches on the M154 fuel control module on the P4 panel with improved switches and doing the associated wiring changes. This AD also requires, for certain airplanes, installation of a mounting bracket for the new indicator lights. This AD also requires a revision to the maintenance program to incorporate airworthiness limitation No. 28-AWL-22. This AD also requires a revision to the airplane flight manual to advise the flightcrew what to do in the event that the pump low pressure light on the flight engineer's panel does not illuminate when the pump is selected off. This AD was prompted by fuel system reviews conducted by the manufacturer. We are issuing this AD to prevent uncommanded operation of the override/jettison pumps of the center wing tanks, and failure to manually shut off the override/jettison pumps at the correct time, either of which could lead to an ignition source inside the center wing tank. This condition, in combination with flammable fuel vapors, could result in a center fuel tank explosion and consequent loss of the airplane.

DATES: This AD is effective January 20, 2011.

The Director of the Federal Register approved the incorporation by reference of a certain publication listed in the AD as of January 20, 2011.

The Director of the Federal Register approved the incorporation by reference of a certain other publication listed in this AD as of June 12, 2008 (73 FR 25977, May 8, 2008).

ADDRESSES: For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue, SE., Washington, DC 20590.

FOR FURTHER INFORMATION CONTACT: Douglas Bryant, Aerospace Engineer, Propulsion Branch, ANM-140S, FAA, Seattle Aircraft Certification Office, 1601 Lind Avenue SW., Renton, Washington 98057-3356; telephone (425) 917-6505; fax (425) 917-6590; e-mail: douglas.n.bryant@faa.gov.

SUPPLEMENTARY INFORMATION:

Discussion

We issued a supplemental notice of proposed rulemaking (NPRM) to amend 14 CFR part 39 to include an airworthiness directive (AD) that would apply to the specified products. That supplemental NPRM published in the Federal Register on October 1, 2010 (75 FR 60661). That supplemental NPRM proposed to require adding two new indicator lights on the P10 panel to inform the captain and first officer of a low pressure condition in the left and right override/jettison pumps of the center wing tanks. That supplemental NPRM also proposed to require replacing the left and right override/jettison switches on the M154 fuel control module on the P4 panel with improved switches and doing the associated wiring changes. That supplemental NPRM also proposed to require, for certain airplanes, installation of a mounting bracket for the new indicator lights. That supplemental NPRM also proposed to require a revision to the maintenance program to incorporate airworthiness limitation No. 28-AWL-22. That supplemental NPRM also proposed to require a revision to the airplane flight manual to advise the flightcrew what to do in the event that the pump low pressure light on the flight engineer's panel does not illuminate when the pump is selected off.

Comments

We gave the public the opportunity to participate in developing this AD. We received no comments on the supplemental NPRM or on the determination of the cost to the public.

Clarification

In our response in the supplemental NPRM to Northwest Airline's Request to Reference Later Revision of Service Bulletin Cited in Original NPRM, we described some of the changes in Boeing Service Bulletin 747-28A2288, Revision 1, dated January 21, 2010. That service bulletin was described as having installation instructions for the LOW PRESS indicator lights for airplanes that did not have the warning panel (i.e., the P10 panel) installed. We also described the changes to paragraph (g) of the Supplemental NPRM. We have revised the Summary and paragraph (g) of this AD to clarify that both groups of airplanes, with or without the warning panel installed, must install the two new indicator lights on certain panels (either the P10 panel, or for those airplanes without the P10 panel installed, the Autopilot Flight Director panel).

Conclusion

We reviewed the relevant data and determined that air safety and the public interest require adopting the AD as proposed.

Costs of Compliance

We estimate that this AD affects 185 airplanes of U.S. registry.

We estimate the following costs to comply with this AD:

Estimated Costs
Action | Labor cost | Parts cost | Cost per product | Cost on U.S. operators
Boeing Service Bulletin 747-28A2288, Revision 1 | Between 30 and 32 work-hours × $85 per hour = Between $2,550 and $2,720 | Between $2,768 and $2,868 | Between $5,318 and $5,588 | Between $983,830 and $1,033,780.
AFM revision | 1 work-hour × $85 per hour = $85 | None | $85 | $15,725

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2010-24-13 The Boeing Company: Amendment 39-16532; Docket No. FAA-2008-1098; Directorate Identifier 2008-NM-108-AD.

Effective Date

(a) This AD is effective January 20, 2011.

Affected ADs

(b) None.

Applicability

(c) This AD applies to The Boeing Company Model 747-100, 747-100B, 747-100B SUD, 747-200B, 747-200C, 747-200F, 747-300, 747SR, and 747SP series airplanes, certificated in any category; as identified in Boeing Service Bulletin 747-28A2288, Revision 1, dated January 21, 2010.

Note 1: This AD requires revisions to certain operator maintenance documents to include a new inspection. Compliance with this inspection is required by 14 CFR 91.403(c). For airplanes that have been previously modified, altered, or repaired in the areas addressed by this inspection, the operator may not be able to accomplish the inspections described in the revisions. In this situation, to comply with 14 CFR 91.403(c), the operator must request approval for an alternative method of compliance (AMOC) according to paragraph (l) of this AD. The request should include a description of changes to the required inspection that will ensure the continued operational safety of the airplane.

Subject

(d) Air Transport Association (ATA) of America Code 28: Fuel.

Unsafe Condition

(e) This AD results from fuel system reviews conducted by the manufacturer. The Federal Aviation Administration is issuing this AD to prevent uncommanded operation of the override/jettison pumps of the center wing tanks, and failure to manually shut off the override/jettison pumps at the correct time, either of which could lead to an ignition source inside the center wing tank. This condition, in combination with flammable fuel vapors, could result in a center fuel tank explosion and consequent loss of the airplane.

Compliance

(f) You are responsible for having the actions required by this AD performed within the compliance times specified, unless the actions have already been done.

Installation of Indicator Lights and Replacement of Switches

(g) Within 36 months after the effective date of this AD: For airplanes with a P10 panel installed, add two new indicator lights on the P10 panel to inform the captain and first officer of a low pressure condition in the left and right override/jettison pumps of the center wing tanks, and, for airplanes that do not have the warning panel (P10 panel) installed, add a mounting bracket and two new indicator lights to the Autopilot Flight Director panel; and replace the left and right override/jettison switches on the M154 fuel control module on the P4 panel with improved switches; and do the associated wiring changes. Accomplish these actions by doing all of the applicable actions specified in the Accomplishment Instructions of Boeing Service Bulletin 747-28A2288, Revision 1, dated January 21, 2010, except where that service bulletin states “20-60-00,” the correct sub-section number is “28-60-06,” and except as described in Table 1 of this AD.

Table 1—Part Number Correction
Part name | Part number specified in Figures 22 through 32 of Boeing Service Bulletin 747-28A2288, Revision 1, dated January 21, 2010 | Part name of correct part | Correct part number
Nut | BACN10JC06CD | Nut | BACN10NW1
Bolt | BACS12HN06-10 | Screw | BACS12HN04-6
Washer | NAS1149D0632J | Washer | NAS1149DN416J

Note 2: For airplanes equipped with certain M154 fuel control modules, paragraph 2.C.2 of Boeing Service Bulletin 747-28A2288, Revision 1, dated January 21, 2010, refers to the BAE Systems service bulletins identified in Table 2 of this AD, as applicable, as additional sources of guidance for replacing the switches.

Table 2—Additional Sources of Guidance
Service bulletin | Date
BAE Systems Service Bulletin 65B46124-28-01 | February 16, 2006.
BAE Systems Service Bulletin 65B46124-28-02 | March 28, 2007.
BAE Systems Service Bulletin 65B46124-28-03 | March 28, 2007.
BAE Systems Service Bulletin 65B46214-28-01 | February 16, 2006.
BAE Systems Service Bulletin 65B46214-28-02 | March 28, 2007.
BAE Systems Service Bulletin 65B46214-28-03 | March 28, 2007.

Maintenance Program Revision

(h) Concurrently with accomplishing the actions required by paragraph (g) of this AD, revise the maintenance program by incorporating Airworthiness Limitation (AWL) No. 28-AWL-22 of Section D of the Boeing 747-100/200/300/SP Airworthiness Limitations (AWLs) and Certification Maintenance Requirements (CMRs), D6-13747-CMR, Revision March 2008. Where the AWL states “28-31-00,” the correct section number is “28-42-00.”

Airplane Flight Manual (AFM) Revision

(i) Concurrently with accomplishing the actions required by paragraph (g) of this AD, revise Section 1, “Certificate Limitations,” of the applicable Boeing 747 AFM to include the following statement. This may be done by inserting a copy of this AD into the AFM.

“When the center tank override jettison pumps are selected off, the amber pump low pressure lights on the Flight Engineer's panel should illuminate and remain on. If a pump low pressure light on the Flight Engineer's panel does not illuminate, open the associated pump circuit breaker.”

Note 3: When a statement identical to that in paragraph (i) of this AD has been included in the general revisions of the AFM, the general revisions may be inserted into the AFM, and the copy of this AD may be removed from the AFM.

No Alternative Inspections or Inspection Intervals

(j) After accomplishing the action specified in paragraph (h) of this AD, no alternative inspections or inspection intervals may be used unless the inspections or inspection intervals are approved as an AMOC in accordance with the procedures specified in paragraph (l) of this AD.

Terminating Action for Maintenance Program Revision

(k) Incorporating AWL No. 28-AWL-22 into the maintenance program in accordance with paragraph (g) of AD 2008-10-07, Amendment 39-15513, or AD 2008-10-07 R1, Amendment 39-16070, terminates the action required by paragraph (h) of this AD.

Alternative Methods of Compliance (AMOCs)

(l)(1) The Manager, Seattle Aircraft Certification Office (ACO), FAA, has the authority to approve AMOCs for this AD, if requested using the procedures found in 14 CFR 39.19. Send information to Attn: Douglas Bryant, Aerospace Engineer, Propulsion Branch, ANM-140S, FAA, Seattle ACO, 1601 Lind Avenue SW., Renton, Washington 98057-3356; telephone (425) 917-6505; fax (425) 917-6590. Information may be e-mailed to: 9-ANM-Seattle-ACO-AMOC-Requests@faa.gov.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

Related Information

(m) For more information about this AD, contact Douglas Bryant, Aerospace Engineer, Propulsion Branch, ANM-140S, FAA, Seattle Aircraft Certification Office, 1601 Lind Avenue SW., Renton, Washington 98057-3356; telephone (425) 917-6505; fax (425) 917-6590; e-mail: douglas.n.bryant@faa.gov.

Material Incorporated by Reference

(n) You must use Boeing Service Bulletin 747-28A2288, Revision 1, dated January 21, 2010; and Boeing 747-100/200/300/SP Airworthiness Limitations (AWLs) and Certification Maintenance Requirements (CMRs), D6-13747-CMR, Revision March 2008; as applicable; to do the actions required by this AD, unless the AD specifies otherwise.

(1) The Director of the Federal Register approved the incorporation by reference Boeing Service Bulletin 747-28A2288, Revision 1, dated January 21, 2010, under 5 U.S.C. 552(a) and 1 CFR part 51.

(2) The Director of the Federal Register previously approved the incorporation by reference of Boeing 747-100/200/300/SP Airworthiness Limitations (AWLs) and Certification Maintenance Requirements (CMRs), D6-13747-CMR, Revision March 2008, on June 12, 2008 (73 FR 25977, May 8, 2008).

(3) For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com.

(4) You may review copies of the service information at the FAA, Transport Airplane Directorate, 1601 Lind Avenue SW., Renton, Washington. For information on the availability of this material at the FAA, call 425-227-1221.

(5) You may also review copies of the service information that is incorporated by reference at the National Archives and Records Administration (NARA). For information on the availability of this material at an NARA facility, call 202-741-6030, or go to http://www.archives.gov/federal_register/code_of_federal_regulations/ibr_locations.html.

Issued in Renton, Washington, on November 18, 2010.
Ali Bahrami,
Manager, Transport Airplane Directorate, Aircraft Certification Service.

[FR Doc. 2010-30612 Filed 12-15-10; 8:45 am]

BILLING CODE 4910-13-P